DEPARTMENT OF THE INTERIOR

Geological Survey

[GX15EN05ESB0500]

Reopening of Nomination Period for Members of the Advisory Committee on Climate Change and Natural Resource Science

AGENCY: U.S. Geological Survey, Interior.

ACTION: Notice.

SUMMARY: The U.S. Department of the Interior published a notice inviting nominations for non-Federal members of the Advisory Committee on Climate Change and Natural Resource Science (Committee). The closing date for nominations was June 1, 2015. This Federal Register Notice reopens the nomination and comment period for 30 days. If you have already submitted information to be considered for appointment to the Committee you do not have to resubmit it.

DATES: Written nominations must be received by July 8, 2015.

ADDRESSES: Send nominations to: Robin O'Malley, Policy and Partnership Coordinator, National Climate Change and Wildlife Science Center, U.S. Geological Survey, 12201 Sunrise Valley Drive, Mail Stop 516, Reston, VA 20192, romalley@usgs.gov.

FOR FURTHER INFORMATION CONTACT: Robin O'Malley, Policy and Partnership Coordinator, National Climate Change and Wildlife Science Center, U.S. Geological Survey, 12201 Sunrise Valley Drive, Mail Stop 516, Reston, VA 20192, romalley@usgs.gov.

SUPPLEMENTARY INFORMATION: On March 30, 2015, the U.S. Department of the Interior (DOI) published a notice inviting nominations for the Advisory Committee on Climate Change and Natural Resource Science (Committee). The Committee provides advice on matters and actions relating to the establishment and operations of the U.S. Geological Survey National Climate Change and Wildlife Science Center and the DOI Climate Science Centers. See: https://nccwsc.usgs.gov/acccnrs for more information.

The Department has determined that additional time is required to enable members to be nominated for the committee.

We are seeking nominations for individuals involved in specific interests, noted below, to be considered as Committee members. Nominations should include a resume that describes the nominee's qualifications in enough detail to enable us to make an informed decision regarding meeting the membership requirements of the Committee and to contact a potential member.

Members of the Committee will be composed of approximately 25 members from both the Federal Government, and the following interests: (1) State and local governments, including state membership entities; (2) Non-governmental organizations, including those whose primary mission is professional and scientific and those whose primary mission is conservation and related scientific and advocacy activities; (3) American Indian tribes and other Native American entities; (4) Academia; (5) Individual landowners; and (6) Business interests.

In addition, the Committee may include scientific experts, and will include rotating representation from one or more of the institutions that host the DOI Climate Science Centers.

The Committee will meet approximately 2-4 times annually, and at such times as designated by the DFO. The Secretary of the Interior will appoint members to the Committee. Members appointed as special Government employees are required to file on an annual basis a confidential financial disclosure report.

No individual who is currently registered as a Federal lobbyist is eligible to serve as a member of the Committee.

Robin O'Malley,
Designated Federal Officer, ACCCNRS.

[FR Doc. 2015-13859 Filed 6-5-15; 8:45 am]

BILLING CODE 4311-MP-P